DEPARTMENT OF EDUCATION

Office of Safe and Drug-Free Schools; Overview Information; Grants for School-Based Student Drug-Testing Programs; Notice Inviting Applications for New Awards for Fiscal Year (FY) 2006

Catalog of Federal Domestic Assistance (CFDA) Number: 84.184D.

Dates: Applications Available: July 26, 2006.

Deadline for Transmittal of Applications: September 5, 2006.

Deadline for Intergovernmental Review: October 4, 2006.

Eligible Applicants: Local educational agencies (LEAs). Additional eligibility requirements are listed in this notice in Section I. Funding Opportunity Description.

Estimated Available Funds: $1,680,000. Contingent upon the availability of funds, the Secretary may make additional awards in FY 2007 from the list of unfunded applicants from this competition.

Estimated Range of Awards: $70,000-$200,000.

Estimated Average Size of Awards: $140,000.

Estimated Number of Awards: 12.

Note: The Department is not bound by any estimates in this notice.

Project Period: Up to 48 months. Projects will be funded for 12 months with an option for three additional 12-month periods, contingent upon substantial progress by the grantee and the availability of funds.

Full Text of Announcement

I. Funding Opportunity Description

Purpose of the Program: The Grants for School-based Student Drug Testing Programs provides funds to LEAs to support development and implementation of drug-testing programs in schools.

Priority: This priority is from the notice of final priority, eligibility and application requirements, and selection criteria for this competition, published elsewhere in this issue of the Federal Register.

Absolute Priority: For FY 2006 and any subsequent year in which we make awards based on the list of unfunded applications from this competition, this priority is an absolute priority. Under 34 CFR 75.105(c)(3) we consider only applications that meet this priority. This priority is:

Participation in Evaluation of Mandatory Random Student Drug-Testing Programs

Under this priority, we will support local educational agencies (LEAs) that agree to participate in a national evaluation of the impact of mandatory random student drug testing on high school students' reported substance use. In order to meet this priority an applicant must:

(1) Agree to carry out its drug-testing program in a manner consistent with the randomized control trial evaluation design developed by ED and its national evaluator;

(2) Propose at least two schools with three or more grades 9 through 12 to participate in the national evaluation;

(3) Not have an existing drug-testing program in operation in any of the schools proposed by the applicant for participation in the national evaluation;

(4) Consent to the evaluator's random assignment of one-half of the schools proposed by the applicant for participation in the national evaluation to begin mandatory random student drug-testing implementation in year one of the grant (following the spring 2007 survey of students), and one-half to begin mandatory random student drug testing approximately one year later (after the spring 2008 survey of students has been completed);

(5) Agree that the schools proposed by the applicant for participation in the national evaluation will limit their mandatory random student drug-testing program to students in grades 9 through 12 and, within that group of students, to one or both of the following:

(a) All students who participate in the school's athletic program; and

(b) All students who are engaged in competitive, extra-curricular, school-sponsored activities;

Note: Competitive, extra-curricular, school-sponsored activities mean any activity under the direct control of the school in which students compete against students in another school. If the State maintains a list of sanctioned, competitive, extra-curricular, school-sponsored activities, the applicant may consider those activities to be competitive, extra-curricular, school-sponsored activities for the purposes of this program.

(6) Not promote or begin the implementation of its mandatory random student drug-testing program in any participating schools until it receives notification from the national evaluator about the random assignment of its schools to participate in the first or second wave of implementation, except that an applicant may conduct outreach and generate community support for its drug-testing policy;

(7) Delay the promotion, announcement, and start of the mandatory random student drug-testing program in schools assigned to the second wave of implementation until the spring 2008 student survey has been completed;

(8) Implement its mandatory random student drug-testing program consistently across participating schools and according to uniform LEA policies and procedures during the evaluation period; and

(9) Provide contact information to the national evaluator in order for the evaluator to obtain (a) the prior written consent of either the parent or the student if the student is 18 years of age or older or is an emancipated minor under State law and (b) student assent for student participation in the surveys (if the student does not have the right to consent as stated in this paragraph) and make available space for the administration of the surveys in the schools.

Once a participating school has begun implementing its mandatory random student drug-testing program in accordance with the requirements of this priority, and following the completion of the spring 2008 student survey, the LEA, at its discretion, may announce, promote, implement, and use grant funds for testing—

(a) In schools assigned to the second wave of implementation;

(b) Students in any grade 6 through 12 who, along with their parent or guardian, volunteer to be tested; and

(c) Students in grades 6 through 8 who participate in the school's athletic programs or competitive, extra-curricular, school-sponsored activities.

Eligibility and Application Requirements: We establish the following eligibility requirements for applications submitted under this program:

(1) LEAs are the only eligible applicants; and

(2) An applicant may not have been the recipient of, or a participant in, a grant in 2005 under ED's School-Based Grants for Student Drug-Testing Programs competition (84.184D).

The following requirements also apply to all applications submitted under this program:

(1) An applicant may not submit more than one application for a grant under the competition.

(2) In its application, an applicant must:

(a) Clearly identify the student population that will be in the drug-testing pool including, to the extent feasible, the number of students in the pool by grade, and demonstrate a significant need for drug testing within the target population;

(b) Propose to test a minimum of 50 percent of the testing pool annually, and use at least a five-panel test (marijuana, amphetamine, cocaine, methamphetamine, and opiates);

(c) Explain how the proposed drug-testing program will be part of an existing, comprehensive drug prevention program in the schools to be served;

(d) Provide a comprehensive plan for referring students who are identified through the testing program as users of illegal drugs or legal medications taken without a prescription to a student assistance program, counseling, or drug treatment if necessary;

(e) Provide a plan to ensure the confidentiality of drug-testing results, including a provision that prohibits the party conducting drug tests from disclosing to school officials any information about a student's use of legal medications for which the student has a prescription;

(f) Provide written assurances of the following:

(i) That results of student drug tests will not be disclosed to law enforcement officials;

(ii) That results of student drug tests will be destroyed when the student graduates or otherwise leaves the LEA or private school involved;

(iii) That all positive drug tests will be subject to confirmation by a method appropriate for the type of test administered and that positive results will be reviewed and verified by a certified medical review officer, a licensed physician who is also an expert in drug and alcohol testing and the Federal regulations governing such testing;

(iv) That legal counsel has reviewed the proposed drug-testing program and advised that the program activities do not appear to violate established constitutional principles or State and Federal requirements related to implementing a mandatory random student drug-testing program;

(v) That all proposed activities will be carried out in accordance with the requirements of the Family Educational Rights and Privacy Act (FERPA) and the Protection of Pupil Rights Amendment (PPRA);

(vi) That the mandatory random student drug-testing program is ready to begin no later than 9 months after receipt of the grant award. We will consider a grantee's failure to achieve readiness to begin its program within 9 months of the grant award as failure to make substantial progress consistent with the requirements of the Education Department General Administrative Regulations (EDGAR) in § 75.253(a)(2)(i). This failure could result in loss of funding for year two of the project period or termination of the grant;

(vii) That mandatory random student drug testing will be conducted for the entire academic year in the schools selected to implement drug testing; and

(viii) That schools randomly assigned to begin drug testing in year one of the grant will not be required to consider students to be in the testing pool at any specific point in time unless they are participating in a covered activity (for example, all students participating at that time in athletics and/or all students participating at that time in competitive, extra-curricular, school-sponsored activities).

(3) Funds awarded under this program may not be used for any of the following purposes:

(a) Student drug tests administered under suspicion of drug use;

(b) Incentives for students to participate in the drug-testing program;

(c) Drug treatment;

(d) Drug prevention curricula or other prevention programs;

(e) Drug tests for students in non-competitive, extra-curricular activities who do not otherwise meet the eligibility criteria;

(f) Drug tests for students in co-curricular activities who do not otherwise meet the eligibility criteria; or

(g) Drug tests for student drivers who park on campus who do not otherwise meet the eligibility criteria.

Program Authority: 20 U.S.C. 7131.

Applicable Regulations: (a) The Education Department General Administrative Regulations (EDGAR) in 34 CFR parts 75, 77, 79, 80, 81, 82, 84, 85, 97, 98, 99, and 299. (b) The notice of final priority, eligibility and application requirements, and selection criteria published elsewhere in this issue of the Federal Register.

Note: The regulations in part 79 apply to all applicants except federally recognized Indian tribes.

II. Award Information

Type of Award: Discretionary grants.

Estimated Available Funds: $1,680,000. Contingent upon the availability of funds, the Secretary may make additional awards in FY 2007 from the list of unfunded applicants from this competition.

Estimated Range of Awards: $70,000-$200,000.

Estimated Average Size of Awards: $140,000.

Estimated Number of Awards: 12.

Note: The Department is not bound by any estimates in this notice.

Project Period: Up to 48 months. Projects will be funded for 12 months with an option for three additional 12-month periods, contingent upon substantial progress by the grantee and the availability of funds.

III. Eligibility Information

1. Eligible Applicants: LEAs. Additional eligibility requirements are listed in this notice in section I. Funding Opportunity Description.

2. Cost Sharing or Matching: This program does not involve cost sharing or matching.

3. Other:

(a) Participation by Private School Children and Teachers. LEAs receiving an award under the Grants for School-Based Student Drug-Testing Program are required to provide for the equitable participation of private school children and their teachers or other educational personnel. In order to ensure that grant program activities address the needs of private school children, timely and meaningful consultation with appropriate private school officials must occur during the design and development of the program. This consultation must take place before any decision is made that affects the opportunities of eligible private school children, teachers, and other educational personnel to participate. Administrative direction and control over grant funds must remain with the grantee. See Section 9501, Participation by Private School Children and Teachers, of the Elementary and Secondary Education Act of 1965, as amended by the No Child Left Behind Act of 2001.

(b) Maintenance of Effort. An LEA may receive an award under the Grants for School-Based Student Drug-Testing Programs only if the State educational agency finds that the combined fiscal efforts per student or the aggregate expenditures of the agency and the State with respect to the provision of free public education by the agency for the preceding fiscal year was not less than 90 percent of the combined fiscal effort or aggregate expenditures for the second preceding fiscal year. See Section 9521, Maintenance of Effort, of the Elementary and Secondary Education Act of 1965, as amended by the No Child Left Behind Act of 2001.

IV. Application Submission Information

1. Address To Request Application Package: Education Publications Center (ED Pubs), P.O. Box 1398, Jessup, MD 20794-1398. Telephone (toll free): 1-877-433-7827. Fax: 1-301-470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs be sure to identify this competition as follows: CFDA Number 84.184D.

You may also download the application from the Department of Education's Web site at: http://www.ed.gov/fund/grant/apply/grantapps/index.html.

Individuals with disabilities may obtain a copy of the application in an alternative format (e.g., Braille, large print, audiotape, or computer diskette) by contacting the program contact person listed in this section.

The public can also obtain applications directly from the program office: Robyn Disselkoen or Charlotte Gillespie, U.S. Department of Education, 400 Maryland Ave., SW., room 3E328, Washington, DC 20202-6450. Telephone: (202) 260-1862 or by e-mail at osdfsdrugtesting@ed.gov.

If you use a telecommunications device for the deaf (TDD), you may call the Federal Relay Service (FRS) at 1-800-877-8339.

2. Content and Form of Application Submission: Certain application requirements for this competition are listed in this notice in section I. Funding Opportunity Description. Additional requirements concerning the content of an application, together with the forms you must submit, are in the application package for this competition.

3. Submission Dates and Times: Applications Available: July 26, 2006. Deadline for Transmittal of Applications: September 5, 2006.

Applications for grants under this program must be submitted electronically using the Electronic Grant Application System (e-Application) available through the Department's e-Grants system. For information (including dates and times) about how to submit your application electronically or by mail or hand delivery if you qualify for an exception to the electronic submission requirement, please refer to section IV. 6. Other Submission Requirements in this notice.

We do not consider an application that does not comply with the deadline requirements.

Deadline for Intergovernmental Review: October 4, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this program must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications. Applications for grants under the Grants for School-Based Student Drug-Testing Programs—CFDA Number 84.184D—must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format. If you upload a file type other than the file types specified above or submit a password protected file, we will not review that material.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2) (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under For Further Information Contact (see VII. Agency Contacts) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Charlotte Gillespie, U.S. Department of Education, 400 Maryland Avenue, SW., room 3E328, Washington, DC 20202. fax: 202-260-7767.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: CFDA Number 84.184D, 400 Maryland Avenue, SW., Washington, DC 20202-4260; or

By mail through a commercial carrier: U.S. Department of Education, Application Control Center—Stop 4260, Attention: CFDA Number 84.184D, 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.184D, 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

You may access the electronic grant application for Grants for School-Based Student Drug-Testing Programs at: http://e-grants.ed.gov.

V. Application Review Information

Selection Criteria: The selection criteria for this competition are from the notice of final priority, eligibility and application requirements, and selection criteria published elsewhere in this issue of the Federal Register, and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and expenditure information as specified by the Secretary in 34 CFR 75.118. We also may require more frequent performance reports in accordance with 34 CFR 75.720(c). Note, however, that you will not be expected to collect data on the key GPRA measures for this program because the data will be collected and reported to ED by the national evaluator.

4. Performance Measure: We have identified the following key GPRA performance measure for the Grants for School-Based Student Drug-Testing programs: The reduction of the incidence of drug use in the past month and past year. The Secretary has set an overall performance target that calls for the prevalence of drug use by students in the target population to decline by 5 percent annually.

This measure constitutes the Department's indicator of success for this program. The national evaluator will collect all data required to report on GPRA in each year that grants are funded. Grantees will have no requirement to collect and report this information.

VII. Agency Contacts

For Further Information Contact: Robyn Disselkoen or Charlotte Gillespie, U.S. Department of Education, 400 Maryland Avenue, SW., room 3E328, Washington, DC 20202-6450. Telephone: 202 260-1862. e-mail address: OSDFSdrugtesting@ed.gov.

If you use a telecommunications device for the deaf (TDD), you may call the Federal Relay Service (FRS) at (toll free) 1-800-877-8339.

Individuals with disabilities may obtain this document in an alternative format (e.g., Braille, large print, audiotape, or computer diskette) on request to the contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at 202-512-1530.

You may also view this document in text or PDF at the following site: http://www.ed.gov/programs/drugtesting/applicant.html.

Note: The official version of this document is the document published in the Federal Register. Free Internet access to the official edition of the Federal Register and the Code of Federal Regulations is available on GPO Access at: http://www.gpoaccess.gov/fr/index.html.

Dated: July 21, 2006.
Deborah A. Price,
Assistant Deputy Secretary for Safe and Drug-Free Schools.

[FR Doc. 06-6491 Filed 7-25-06; 8:45 am]

BILLING CODE 4000-01-P